DEPARTMENT OF COMMERCE

International Trade Administration

[A-201-835]

Lemon Juice From Mexico: Final Results of Full Sunset Review of the Suspended Antidumping Duty Investigation

AGENCY: Import Administration, International Trade Administration, Department of Commerce.

DATES: Effective Date: June 28, 2013.

SUMMARY: On August 1, 2012, the Department of Commerce (“Department”) published in the Federal Register the notice of initiation of the sunset review of the suspended antidumping duty investigation on lemon juice from Mexico. The Department finds that termination of the suspended antidumping duty investigation would be likely to lead to continuation or recurrence of dumping at the margins indicated in the “Final Results of Review” section of this notice.

FOR FURTHER INFORMATION CONTACT: Maureen Price or Sally C. Gannon, Bilateral Agreements Unit, Import Administration, International Trade Administration, U.S. Department of Commerce, 14th Street and Constitution Avenue NW., Washington, DC 20230; telephone: (202) 482-4271 or (202) 482-0162, respectively.

SUPPLEMENTARY INFORMATION:

Background

On August 1, 2012, the Department initiated a sunset review of the suspended antidumping duty investigation on lemon juice from Mexico, pursuant to section 751(c) of the Tariff Act of 1930, as amended (“the Act”).¹ The Department received a notice of intent to participate from the domestic interested party, Ventura Coastal, LLC (“Ventura”), a joint venture between Ventura Coastal and Sunkist Growers, Inc., the petitioner in the underlying investigation, within the deadline specified in 19 CFR 351.218(d)(1)(i). Ventura claimed interested party status under section 771(9)(C) of the Act as a U.S. producer of the subject merchandise. On August 31, 2012, the Department received complete substantive responses from the domestic interested party and the respondent interested parties, The Coca-Cola Company and its subsidiary, The Coca-Cola Export Corporation, Mexico Branch (collectively, “TCCC”) and Procimart Citrus (“Procimart”), within the 30-day deadline specified in 19 CFR 351.218(d)(3)(i). On September 7, 2012, the Department received timely filed rebuttals to the substantive responses from Ventura and Procimart. As a result, pursuant to 19 CFR 351.218(e)(2), the Department conducted a full sunset review.² On December 26, 2012, the Department preliminarily determined that termination of the suspended antidumping duty investigation on lemon juice from Mexico would likely lead to continuation or recurrence of dumping.³ Procimart filed a request for a hearing on January 25, 2013, which it later withdrew.⁴ On February 14, 2013, the respondent interested parties submitted comments on the Preliminary Results ⁵ and, on February 19, 2013, Ventura submitted rebuttal comments.⁶ On March 18, 2013, the Department extended the deadline for the final results of full sunset review of the Agreement and the suspended antidumping duty investigation to July 1, 2013.

¹ Initiation of Five-Year (“Sunset”) Review and Correction, 77 FR 45589 (August 1, 2012).

² Memorandum to Sally C. Gannon, Director for Bilateral Agreements, Office of Policy, Sunset Review of the Agreement Suspending the Antidumping Investigation of Lemon Juice from Mexico: Adequacy Determination, September 19, 2012.

³ Lemon Juice from Mexico: Preliminary Results of Full Sunset Review of the Suspended Antidumping Duty Investigation, 77 FR 75998 (December 26, 2012) (“Preliminary Results”).

⁴ Lemon Juice from Mexico; Request to Participate at Hearing on behalf of Procimart Citrus, January 25, 2013; Lemon Juice from Mexico; Withdraw of Hearing Request Sunset Review on behalf of Procimart Citrus, February 15, 2013.

⁵ Lemon Juice from Mexico (A-201-835) Sunset Review; TCCC Case Brief, February 14, 2013; Procimart SA de CV and the Citrus Team Company Brief, February 14, 2013.

⁶ Lemon Juice from Mexico—Rebuttal Brief on behalf of Ventura Coastal, LLC (Rebuttal Brief), February 19, 2013.

Scope of the Suspended Investigation

The merchandise covered by the suspended investigation includes certain lemon juice for further manufacture, with or without addition of preservatives, sugar, or other sweeteners, regardless of the GPL (grams per liter of citric acid) level of concentration, brix level, brix/acid ratio, pulp content, clarity, grade, horticulture method (e.g., organic or not), processed form (e.g., frozen or not-from-concentrate), FDA standard of identity, the size of the container in which packed, or the method of packing.

Excluded from the scope are: (1) Lemon juice at any level of concentration packed in retail-sized containers ready for sale to consumers, typically at a level of concentration of 48 GPL; and (2) beverage products such as lemonade that typically contain 20% or less lemon juice as an ingredient.

Lemon juice is classifiable under subheadings 2009.39.6020, 2009.31.6020, 2009.31.4000, 2009.31.6040, and 2009.39.6040 of the Harmonized Tariff Schedule of the United States (HTSUS). While HTSUS subheadings are provided for convenience and customs purposes, our written description of the scope of this Agreement is dispositive.

Analysis of Comments Received

All issues raised in this review are addressed in the Issues and Decision Memorandum (“Decision Memorandum”) from Lynn Fischer Fox, Deputy Assistant Secretary for Policy & Negotiations, to Ronald K. Lorentzen, Acting Assistant Secretary for Import Administration, dated concurrently with this notice, which is hereby adopted by this notice. The issues discussed in the Decision Memorandum include the likelihood of continuation or recurrence of dumping, the magnitude of the margin of dumping likely to prevail if the suspended investigation were terminated, and whether to disregard Ventura's response. Parties can find a complete discussion of all issues raised in this sunset review and the corresponding recommendations in this public memorandum, which is on file electronically via Import Administration's Antidumping and Countervailing Duty Centralized Electronic Service System (“IA ACCESS”). Access to IA ACCESS is available to registered users at http://iaaccess.trade.gov/ and in the Central Records Unit (“CRU”), Room 7046 of the main Department of Commerce building. In addition, a complete version of the Decision Memorandum can be accessed directly on the Internet at http://ia.ita.doc.gov/frn. The paper copy and electronic version of the Decision Memorandum are identical in content.

Final Results of Review

Pursuant to sections 751(c)(1) and (3) of the Act, the Department determines that termination of the suspended antidumping duty investigation on lemon juice from Mexico would likely lead to continuation or recurrence of dumping and that the magnitude of the margin of dumping likely to prevail if the suspended investigation were terminated is 146.10 percent for The Coca-Cola Export Corporation, Mexico Branch, 205.37 percent for Citrotam Internacional S.P.R. de R.L. (Citrotam)/Productos Naturales de Citricos (Pronacit) and 146.10 percent for all other exporters.

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

The Department is issuing and publishing the results and notice in accordance with sections 751(c), 752(c), and 777(i)(1) of the Act.

Dated: June 20, 2013.
Ronald K. Lorentzen,
Acting Assistant Secretary for Import Administration.

[FR Doc. 2013-15446 Filed 6-27-13; 8:45 am]

BILLING CODE 3510-DS-P